FEDERAL TRADE COMMISSION

Agency Information Collection Activities; Proposed Collection; Comment Request; Extension

AGENCY: Federal Trade Commission.

ACTION: Notice.

SUMMARY: The Federal Trade Commission (“FTC” or “Commission”) is seeking public comments on its proposal to extend for an additional three years the current Paperwork Reduction Act (“PRA”) clearance for information collection requirements contained in the FTC regulations governing the duties of furnishers of information to consumer reporting agencies (“Information Furnishers Rule” or “Rule”), which applies to certain motor vehicle dealers, and its shared enforcement with the Bureau of Consumer Financial Protection (“CFPB”) of the furnisher provisions (subpart E) of the CFPB's Regulation V regarding other entities. The current clearance expires on September 30, 2025.

DATES: Comments must be filed by July 15, 2025.

ADDRESSES: Interested parties may file a comment online or on paper, by following the instructions in the Request for Comment part of the SUPPLEMENTARY INFORMATION section below. Write “Information Furnishers Rule, PRA Comment, P135407” on your comment, and file your comment online at https://www.regulations.gov by following the instructions on the web-based form. If you prefer to file your comment on paper, mail your comment to the following address: Federal Trade Commission, Office of the Secretary, 600 Pennsylvania Avenue NW, Suite CC-5610 (Annex J), Washington, DC 20580.

FOR FURTHER INFORMATION CONTACT: Gorana Neskovic, Attorney, Division of Privacy and Identity Protection, Bureau of Consumer Protection, (202) 326-2322, 600 Pennsylvania Ave. NW, CC-8232, Washington, DC 20580.

SUPPLEMENTARY INFORMATION:

Title of Collection: Duties of Furnishers of Information to Consumer Reporting Agencies.

OMB Control Number: 3084-0144.

Type of Review: Extension without change of a currently approved collection.

Affected Public: Private Sector: Businesses and other for-profit entities.

Estimated Annual Burden Hours: 15,423 hours.

Estimated Annual Labor Costs: $942,021.

Estimated Annual Non-Labor Costs: $0.

Abstract: The Dodd-Frank Act ¹ transferred most of the FTC's rulemaking authority for the furnisher provisions of the Fair Credit Reporting Act (“FCRA”) ² to the CFPB. The FTC, however, retains rulemaking authority for motor vehicle dealers that are predominantly engaged in the sale and servicing of motor vehicles, the leasing and servicing of motor vehicles, or both.³ In addition, the FTC retains its authority to enforce the furnisher provisions of the FCRA and rules issued under those provisions. Accordingly, the FTC and CFPB have overlapping enforcement authority for many entities subject to CFPB's Regulation V (subpart E), and the FTC has sole enforcement authority for the motor vehicle dealers subject to the FTC's Information Furnishers Rule.

¹ Public Law 111-203, 124 Stat. 1376 (2010).

² 15 U.S.C. 1681 et seq.

³ See Dodd-Frank Act, sec. 1029(a), (c).

Under § 660.3 of the FTC's Information Furnishers Rule ⁴ and § 1022.42 of the CFPB Rule,⁵ furnishers must establish and implement reasonable written policies and procedures regarding the accuracy and integrity of the information relating to consumers that they furnish to a consumer reporting agency (“CRA”) for inclusion in a consumer report.⁶ Section 660.4 of the FTC Rule and § 1022.43 of the CFPB Rule require that entities which furnish information about consumers to a CRA respond to direct disputes from consumers. These provisions also require that a furnisher notify consumers by mail or other means (if authorized by the consumer) within five business days after making a determination that a dispute is frivolous or irrelevant (“F/I dispute”).

⁴ 16 CFR 660.3.

⁵ 12 CFR 1022.42.

⁶ The rules also provide that an entity is not a furnisher when it: (1) provides information to a CRA solely to obtain a consumer report for a permissible purpose under the FCRA; (2) is acting as a CRA as defined in section 603(f) of the FCRA; (3) is an individual consumer to whom the furnished information pertains; or (4) is a neighbor, friend, or associate of the consumer, or another individual with whom the consumer is acquainted or who may have knowledge about the consumer's character, general reputation, personal characteristics, or mode of living in response to a specific request from a CRA.

As required by section 3506(c)(2)(A) of the PRA, 44 U.S.C. 3506(c)(2)(A), the FTC is providing this opportunity for public comment before requesting that OMB extend the existing clearance for the information collection requirements.

Burden Statement

A. Number of Respondents: 6,394

FTC staff estimates that approximately 6,394 information furnishers are subject to the FTC's Information Furnishers Rule and its enforcement authority.⁷

⁷ The CFPB estimates that there are 16,000 furnishers, excluding motor vehicle dealers that are subject to the FTC's jurisdiction, with an allocation to that agency of 63 percent of the burden or 10,080 respondents. See CFPB, Supporting Statement Part A, Fair Credit Reporting Act (Regulation V) 12 CFR 1022 (OMB Control Number: 3170-0002) (https://www.reginfo.gov/public/do/PRAViewDocument?ref_nbr=202008-3170-001). Allocating the remaining 37 percent of the burden to the FTC yields 5,920 respondents, excluding motor vehicle dealers that are subject to the FTC's jurisdiction. FTC staff estimates that there are approximately 47,442 motor vehicle dealers in the U.S. See U.S. Census Bureau, All Sectors: County Business Patterns, including ZIP Code Business Patterns, by Legal Form of Organization and Employment Size Class for the U.S., States, and Selected Geographies: 2022, available at https://data.census.gov/table/CBP2022.CB2200CBP?n=44111:44112 (listing 21,835 establishments for “new car dealers,” NAICS Code 44111, and 25,607 establishments for “used car dealers,” NAICS Code 44112). It is difficult to determine precisely the number of motor vehicle dealers that are subject to the FTC's jurisdiction and that are furnishers. Given the restrictions in section 1029(a) of the Dodd-Frank Act that motor vehicle dealers subject to the FTC's jurisdiction are those that routinely assign consumer contracts governing retail credit to an unaffiliated third-party finance source, FTC staff believes the number is de minimis. Accordingly, FTC staff estimates that 1 percent of motor vehicle dealers subject to the FTC's jurisdiction are furnishers of information to CRAs, or 474 respondents. Thus, for purposes of these burden calculations, FTC staff assumes that there are 6,394 respondents (474 motor vehicle dealers + 5,920 other entities).

B. Section 660.3 of FTC Rule and § 1022.42 of CFPB Rule

I. Annual Hours Burden: 12,788 hours.

Section 660.3 of the FTC's Furnisher Rule and § 1022.42 of Regulation V (subpart E) require furnishers to establish written policies and procedures regarding the accuracy and integrity of information relating to consumers that they furnish to a CRA. Furnishers must also review these policies and procedures periodically and update them as necessary to ensure their continued effectiveness. FTC staff estimate a yearly recurring burden of 2 hours for training to help ensure continued compliance regarding written policies and procedures for the accuracy and integrity of the information furnished to a CRA about consumers.⁸ This yields an annual hours burden of 12,788 hours (6,394 respondents × 2 hours for training).

⁸ See 74 FR 31484, 31505 (July 1, 2009).

II. Annual Labor Costs: $864,341.

Labor costs are derived by applying appropriate estimated hourly cost figures to the burden hours described above. The FTC assumes that respondents will use managerial and/or professional technical personnel to train company employees on continued compliance with the information furnisher requirements under the FTC and CFPB Rules. This yields estimated annual labor costs of $864,341 (12,788 hours × $67.59 ⁹).

⁹ See Bureau of Labor Statistics, U.S. Department of Labor, Table 1: National Employment and Wage Data from the Occupational Employment Statistics Survey by Occupation, May 2024, available at https://www.bls.gov/news.release/ocwage.t01.htm [hereinafter BLS Table 1], for mean hourly wage rate for “Training and Development Managers.”

C. Section 660.4 of FTC Rule and § 1022.43 of CFPB Rule

Section 660.4 of the FTC's Information Furnishers Rule and § 1022.43 of the CFPB's Regulation V (subpart E) require furnishers to respond to direct disputes from consumers and notify consumers by mail or other means (if authorized by the consumer) within five business days after making a determination that a dispute is frivolous or irrelevant.

I. Annual Hours Burden: 2,635 hours.

FTC staff estimate that the burden necessary to prepare and distribute F/I notices is approximately 14 minutes per notice.¹⁰ Based on the calculations below, this yields an annual hours burden of 2,635 hours.

¹⁰ 74 FR 31484, 31505 (July 1, 2009).

1. 21,720 total F/I disputes ¹¹

¹¹ Id. at 31506 n. 58.

2. Motor vehicle dealer-only furnisher disputes are assumed to be 4 percent of the total: 21,720 × .04 = 869 F/I disputes ¹²

¹² FTC staff believes that 4 percent is a reasonable estimate based on recent data. See “Key Dimensions and Processes in the U.S. Credit Reporting System: A review of how the nation's largest credit bureaus handle consumer data,” December 2012, pp. 14, 29, 31, 34. The CFPB report noted that almost 40 percent of all consumer disputes at the nationwide CRAs, on average, can be linked to collections. It stated that collection trade lines generate significantly higher numbers of consumer disputes than other types of trade lines—specifically, four times higher than auto-related dispute rates. These figures seem to suggest that almost 10 percent of all consumer disputes at the nationwide CRAs, on average, can be linked to auto-related disputes. When the FTC issued its final Rule, FTC staff estimated that 40 percent of direct disputes would result in the sending of F/I dispute notices. See 74 FR 31506 n.58. The FTC's estimate of 4 percent is based on taking 40 percent of the 10 percent of all consumer disputes at the nationwide CRAs, on average, linked to auto loans.

3. 20,851 respondents (21,720−869 FTC only) ÷ by 2 = 10,425 F/I disputes subject to FTC shared jurisdiction

4. 869 FTC only F/I disputes + 10,425 additional F/I disputes = 11,294 F/I dispute notices for the FTC's jurisdiction

5. 11,294 F/I disputes × 14 minutes each = 2,635 hours

II. Annual Labor Costs: $77,680.

Labor costs are derived by applying appropriate estimated hourly cost figures to the burden hours described above. FTC staff assumes that respondents will use skilled administrative support personnel to provide the required F/I dispute notices to consumers. This yields estimated annual labor costs of $77,680 (2,635 hours × $29.48 ¹³).

¹³ The revised figure is an average of Bureau of Labor Statistics mean hourly wages for potentially analogous employee types; specifically, first-line supervisors of office and administrative support workers ($34.40); bookkeeping, accounting, and auditing clerks ($25.01); brokerage clerks ($32.54); and eligibility interviewers, government programs ($25.95). See BLS Table 1. This averages to $29.48 per hour, rounded.

D. Annual Non-Labor Costs: $0

FTC staff believes that these information collection requirements impose negligible capital or other non-labor costs, as the affected entities are already likely to have the necessary supplies and equipment (e.g., offices and computers) to administer the information collections described above.

Request for Comment

Pursuant to section 3506(c)(2)(A) of the PRA, the FTC invites comments on: (1) whether the disclosure and recordkeeping requirements are necessary, including whether the information will be practically useful; (2) the accuracy of our burden estimates, including whether the methodology and assumptions used are valid; (3) ways to enhance the quality, utility, and clarity of the information to be collected; and (4) ways to minimize the burden of the collection of information.

For the FTC to consider a comment, we must receive it on or before July 15, 2025. Your comment, including your name and your state, will be placed on the public record of this proceeding, including the https://www.regulations.gov website.

You can file a comment online or on paper. Due to heightened security screening, postal mail addressed to the Commission will be subject to delay. We encourage you to submit your comments online through the https://www.regulations.gov website.

If you file your comment on paper, write “Information Furnishers Rule, PRA Comment, P135407” on your comment and on the envelope, and mail it to the following address: Federal Trade Commission, Office of the Secretary, 600 Pennsylvania Avenue NW, Suite CC-5610 (Annex J), Washington, DC 20580.

Because your comment will become publicly available at https://www.regulations.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by section 6(f) of the FTC Act, 15 U.S.C. 46(f), and FTC Rule 4.10(a)(2), 16 CFR 4.10(a)(2)—including, in particular, competitively sensitive information, such as costs, sales statistics, inventories, formulas, patterns, devices, manufacturing processes, or customer names.

Comments containing material for which confidential treatment is requested must (1) be filed in paper form, (2) be clearly labeled “Confidential,” and (3) comply with FTC Rule 4.9(c). In particular, the written request for confidential treatment that accompanies the comment must include the factual and legal basis for the request and must identify the specific portions of the comment to be withheld from the public record. See FTC Rule 4.9(c). Your comment will be kept confidential only if the General Counsel grants your request in accordance with the law and the public interest. Once your comment has been posted publicly at www.regulations.gov, we cannot redact or remove your comment unless you submit a confidentiality request that meets the requirements for such treatment under FTC Rule 4.9(c), and the General Counsel grants that request.

The FTC Act and other laws that the Commission administers permit the collection of public comments to consider and use in this proceeding as appropriate. The Commission will consider all timely and responsive public comments that it receives on or before July 15, 2025. For information on the Commission's privacy policy, including routine uses permitted by the Privacy Act, see https://www.ftc.gov/site-information/privacy-policy.

Josephine Liu,
Assistant General Counsel for Legal Counsel.

[FR Doc. 2025-08801 Filed 5-15-25; 8:45 am]

BILLING CODE 6750-01-P